DEPARTMENT OF ENERGY

Federal Energy Regulatory Commission

Notice of Scoping Meetings and Site Visit and Soliciting Scoping Comments for an Applicant Prepared Environmental Assessment Using the Alternative Licensing Process

March 14, 2006.

a. Subject: Alternative Licensing Process for a New Major License.

b. Project No.: 12478-000.

c. Applicant: Gibson Dam Hydroelectric Company, LLC.

d. Name of Project: Gibson Dam Hydroelectric Project.

e. Location: The proposed hydroelectric generating facility would be located at Gibson dam on the Sun River approximately 18 miles northwest of Augusta, MT in Teton and Lewis and Clark counties. The project power generating facilities would be constructed at or near the base of Gibson dam on U.S. Bureau of Reclamation lands. Gibson dam lies within the Lewis and Clark National Forest, administered by the U.S. Forest Service.

f. The application would be filed pursuant to: Federal Power Act, 16 U.S.C. 791(a)-825(r).

g. Applicant Contact: Steven C. Marmon, Project Manager, Gibson Dam Hydroelectric Company, LLC, 3633 Alderwood Avenue, Bellingham, WA 98225, smarmon@tollhouseenergy.com, 360.738.9999 X 122.

h. FERC Contact: David Turner, david.turner@ferc.gov, 202.502.6091.

i. Deadline for filing scoping comments: May 12, 2006.

All documents (original and eight copies) should be filed with: Magalie R. Salas, Secretary, Federal Energy Regulatory Commission, 888 First Street, NE., Washington, DC 20426.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

Comments may be filed electronically via the Internet in lieu of paper. The Commission strongly encourages electronic filings. See 18 CFR 385.2001(a)(1)(iii) and the instructions on the Commission's Web site (http://www.ferc.gov) under the “e-Filing” link.

j. The hydroelectric project would be located at or near Gibson dam on the Sun River approximately 18 miles northwest of Augusta, MT. Gibson dam is an existing water storage and supply facility owned and operated by the U.S. Bureau of Reclamation through a Memorandum of Understanding with the U.S. Forest Service. The project power generating facilities would be constructed at or near the base of Gibson dam on U.S. Bureau of Reclamation lands, and would consist of a powerhouse, a 5-35 kilovolt (kV) transformer located near the powerhouse, a 35kV transmission line extending from the transformer to a 35-69kV substation, and a 69kV overhead transmission line extending from the substation to the existing South Augusta substation.

Three alternative powerhouse configurations are currently under consideration. All three designs would involve an approximately 60 foot (ft) by 160 ft powerhouse, which would house two 6-megawatt (MW) and two 1.5-MW horizontal shaft Francis-type turbine/generators. Specifically, the alternatives are: (1) Upstream Alternative, with the powerhouse located just downstream of and parallel to the Gibson dam; (2) Upstream Alternative, with the powerhouse located just downstream of and perpendicular to the Gibson dam; and (3) Downstream Alternative, with the powerhouse located adjacent to the access road approximately 250 ft downstream from the base of the dam.

k. Scoping Process. Gibson Dam Hydroelectric Company, LLC (GDHC) intends to utilize the Federal Energy Regulatory Commission's (Commission) alternative licensing process (ALP). Under the ALP, GDHC will prepare an applicant prepared Environmental Assessment (EA) and license application for the Gibson Dam Hydroelectric Project.

GDHC expects to file with the Commission, the applicant prepared EA and the license application for the Gibson Dam Hydroelectric Project by March 2007. Although GDHC's intent is to prepare an EA, there is the possibility that an Environmental Impact Statement (EIS) would be necessary to complete the NEPA process. Nevertheless, this meeting will satisfy the NEPA scoping requirements, irrespective of whether an EA or EIS is issued by the Commission.

The purpose of this notice is to inform you of the opportunity to participate in the upcoming scoping meetings identified below, and to solicit your scoping comments.

Scoping Meetings

GDHC and the Commission staff will hold two scoping meetings—one in the evening and one in the morning—to help us identify the scope of issues to be addressed in the applicant prepared EA. The evening scoping meeting will be oriented primarily for the public, while the morning scoping meeting will focus on resource agency and non-governmental organization concerns. All interested individuals, organizations, tribes, and agencies are invited to attend one or both of the meetings, and to assist the Commission staff in identifying the environmental issues that should be analyzed in the applicant prepared EA. The times and locations of these meetings are as follows:

Evening Meeting

Tuesday, April 11, 2006, 7 p.m. to 9 p.m. (MST), Fairfield Community Center, Fairfield, MT.

Morning Meeting

Wednesday, April 12, 2006, 9 a.m. to 12 p.m. (MST), Montana Association of Counties Building, 2715 Skyway Drive, Helena, MT.

To help focus discussions, copies of SD1 outlining the subject areas to be addressed in the applicant prepared EA were distributed to the parties on the Commission's mailing list. Copies of the SD1 also will be available at the scoping meetings. SD1 is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659.

You may also register online at http://www.ferc.gov/docs-filing/esubscription.asp to be notified via e-mail of new filings and issuances related to this or other pending projects. For assistance, contact FERC Online Support.

Based on all comments received, a Scoping Document 2 (SD2) may be issued. SD2 will include a revised list of issues, based on the scoping sessions.

Objectives

At the scoping meetings, the staff will: (1) Summarize the environmental issues tentatively identified for analysis in the applicant prepared EA; (2) solicit from the meeting participants all available information, especially quantifiable data, on the resources at issue; (3) encourage statements from experts and the public on issues that should be analyzed in the applicant prepared EA, including viewpoints in opposition to, or in support of, the staffs preliminary views; (4) determine the resource issues to be addressed in the applicant prepared EA; and, (5) identify those issues that require a detailed analysis, as well as those issues that do not require a detailed analysis.

Procedures

The meetings will be recorded by a stenographer and will become part of the formal record of the Commission proceeding on the project.

Individuals, organizations, tribes, and agencies with environmental expertise and concerns are encouraged to attend the meetings and to assist GDHC in defining and clarifying the issues to be addressed in the applicant prepared EA.

Site Visit

Commission staff and GDHC will conduct a site visit to the Gibson dam at 9 a.m. on April 11, 2006. All interested individuals, organizations, and agencies are invited to attend. Any person interested in attending the site visit should contact Steve Marmon no later than Friday April 7, 2006, at: Steven C. Marmon, Project Manager, Gibson Dam Hydroelectric Company, LLC, 3633 Alderwood Avenue Bellingham, WA 98225, 360-738-9999 X 122, smarmon@tollhouseenergy.com.

Magalie R. Salas,
Secretary.

[FR Doc. E6-4040 Filed 3-20-06; 8:45 am]

BILLING CODE 6717-01-P